DEPARTMENT OF TRANSPORTATION

Federal Aviation Administration

14 CFR Part 71

[Docket No. FAA-2002-14047; Airspace Docket No. 02-AGL-20]

Proposed Establishment of Class E Airspace; Berrien Springs, MI

Correction

In proposed rule document 03-1130 beginning on page 2461 in the issue of Friday, January 17, 2003, make the following correction:

§71.1 [Corrected]

On page 2462, in the first column, in §71.1, in the sixth line from the bottom, the heading AGL MI E5 Berien Springs, MI [New] should read, AGL MI E5 Berrien Springs, MI [New].

[FR Doc. C3-1130 Filed 1-28-03; 8:45 am]

BILLING CODE 1505-01-D